ENVIRONMENTAL PROTECTION AGENCY

40 CFR Parts 51, 52, 70, and 71

[EPA-HQ-OAR-2009-0517; FRL-8977-3]

RIN 2060-AP86

Prevention of Significant Deterioration and Title V Greenhouse Gas Tailoring Rule

AGENCY: Environmental Protection Agency (EPA).

ACTION: Notice of public hearings.

SUMMARY: The EPA is announcing 2 public hearings to be held for the proposed rule “Prevention of Significant Deterioration and Title V Greenhouse Gas Tailoring Rule” which published in the Federal Register on October 27, 2009. The hearings will be held on Wednesday, November 18, 2009, in Arlington, VA, and on Thursday, November 19, 2009, in Rosemont, IL.

DATES: The public hearings will be held on November 18, 2009, and November 19, 2009.

ADDRESSES: The November 18, 2009 hearing will be held at the Hyatt Regency Crystal City at Reagan National Airport, Second Floor, Room Tidewater 2, 2799 Jefferson Davis Highway, Arlington, VA 22202; phone number (703) 418-1234. The November 19, 2009 will be held at the Donald E. Stephens Convention Center, Level 2, Room 46, 5555 North River Road, Rosemont, IL 60018; phone number (847) 692-2220. Both public hearings will convene at 10 a.m. and continue until 7 p.m. (local time) or later, if necessary, depending on the number of speakers wishing to participate. The EPA will make every effort to accommodate all speakers that arrive and register before 7 p.m. A lunch break is scheduled from 12:30 p.m. until 2 p.m. during both hearings. The EPA Web site for the rulemaking, which includes the proposal and information about the public hearings, can be found at: http://www.epa.gov/nsr.

FOR FURTHER INFORMATION CONTACT: If you would like to speak at the public hearing, please contact Ms. Pamela Long, U.S. Environmental Protection Agency, OAQPS, Air Quality Planning Division, (C504-03), Research Triangle Park, NC 27711, telephone (919) 541-0641, fax number (919) 541-5509, e-mail address long.pam@epa.gov, no later than November 13, 2009. If you have any questions relating to the public hearing, please contact Ms. Long at the above number.

Questions concerning the October 27, 2009, proposed rule should be addressed to Mr. Joseph Mangino, U.S. EPA, Office of Air Quality Planning and Standards, Operating Permits Group, (C504-05), Research Triangle Park, NC 27711, telephone number (919) 541-9778, e-mail at mangino.joseph@epa.gov.

SUPPLEMENTARY INFORMATION: The October 27, 2009, notice of proposed rulemaking proposes to tailor the major source applicability thresholds for greenhouse gas (GHG) emissions under the Prevention of Significant Deterioration (PSD) and title V programs of the Clean Air Act (CAA or Act) and to set a PSD significance level for GHG emissions. This proposal is necessary because EPA expects soon to promulgate regulations under the CAA to control GHG emissions and, as a result, trigger PSD and title V applicability requirements for GHG emissions. If PSD and title V requirements apply at the applicability levels provided under the CAA, State permitting authorities would be paralyzed by permit applications in numbers that are orders of magnitude greater than their current administrative resources could accommodate. On the basis of the legal doctrines of “absurd results” and “administrative necessity,” this proposed rule would phase in the applicability thresholds for both the PSD and title V programs for sources of GHG emissions. The first phase, which would last 6 years, would establish a temporary level for the PSD and title V applicability thresholds at 25,000 tons per year (tpy), on a “carbon dioxide equivalent” (CO2e) basis, and a temporary PSD significance level for GHG emissions of between 10,000 and 25,000 tpy CO2e. EPA would also take other streamlining actions during this time. Within 5 years of the final version of this rule, EPA would conduct a study to assess the administrability issues. Then, EPA would conduct another rulemaking, to be completed by the end of the sixth year, that would promulgate, as the second phase, revised applicability and significance level thresholds and other streamlining techniques, as appropriate.

Public hearing: The proposal for which EPA is holding the public hearings was published in the Federal Register on October 27, 2009, (74 FR 55292) and is available at: http://www.epa.gov/nsr and also in the docket identified below. The public hearings will provide interested parties the opportunity to present data, views, or arguments concerning the proposal. The EPA may ask clarifying questions during the oral presentations, but will not respond to the presentations at that time. Written statements and supporting information submitted during the comment period will be considered with the same weight as any oral comments and supporting information presented at the public hearing. Written comments on the proposed rule must be postmarked by December 28, 2009.

Commenters should notify Ms. Long if they will need specific equipment, or if there are other special needs related to providing comments at the hearings. The EPA will provide equipment for commenters to show overhead slides or make computerized slide presentations if we receive special requests in advance. Oral testimony will be limited to 5 minutes for each commenter. The EPA encourages commenters to provide EPA with a copy of their oral testimony electronically (via e-mail or CD) or in hard copy form.

The hearing schedules, including lists of speakers, will be posted on EPA's Web site http://www.epa.gov/nsr. Verbatim transcripts of the hearings and written statements will be included in the docket for the rulemaking.

How Can I Get Copies of This Document and Other Related Information?

The EPA has established a docket for the proposed rule “Prevention of Significant Deterioration and Title V Greenhouse Gas Tailoring Rule” under Docket ID No. EPA-HQ-OAR-2009-0517 (available at http://www.regulations.gov).

As stated previously, the proposed rule was published in the Federal Register on October 27, 2009 (74 FR 55292) and is available at http://www.epa.gov/nsr and in the above-cited docket.

Dated: October 29, 2009.
Mary Henigin,
Acting Director, Office of Air Quality Planning and Standards.

[FR Doc. E9-26537 Filed 11-3-09; 8:45 am]

BILLING CODE 6560-50-P